DEPARTMENT OF COMMERCE

International Trade Administration

[A-357-816, A-602-804, A-423-811, A-351-834, A-427-822, A-428-834, A-533-826, A-588-859, A-580-848, A-421-810, A-614-803, A-570-872, A-821-815, A-791-814, A-469-812, A-401-807, A-583-839, A-549-819, A-489-810, A-307-822]

Notice of Initiation of Antidumping Duty Investigations: Certain Cold-Rolled Carbon Steel Flat Products From Argentina, Australia, Belgium, Brazil, France, Germany, India, Japan, Korea, the Netherlands, New Zealand, the People's Republic of China, the Russian Federation, South Africa, Spain, Sweden, Taiwan, Thailand, Turkey, and Venezuela

AGENCY: Import Administration, International Trade Administration, Department of Commerce.

ACTION: Initiation of antidumping duty investigations.

EFFECTIVE DATE: October 26, 2001.

FOR FURTHER INFORMATION CONTACT: Barbara Wojcik-Betancourt (Argentina, Brazil, South Africa, Spain) at (202) 482-0629; Paige Rivas (Australia, India, Korea, New Zealand) at (202) 482-0651; Brian Ledgerwood (the Netherlands, Sweden) at (202) 482-3836; Fred Baker (France, Germany, the People's Republic of China, the Russian Federation) at (202) 482-2924; Michael Stollo (Japan, Thailand, Turkey, Venezuela) at (202) 482-5255; and Victoria Schepker (Belgium, Taiwan) at (202) 482-1756; Import Administration, International Trade Administration, U.S. Department of Commerce, 14th Street and Constitution Avenue, NW., Washington, DC 20230.

Initiation of Investigations

The Applicable Statute and Regulations

Unless otherwise indicated, all citations to the statute are references to the provisions effective January 1, 1995, the effective date of the amendments made to the Tariff Act of 1930, as amended (the Act), by the Uruguay Round Agreements Act (URAA). In addition, unless otherwise indicated, all citations to the Department's regulations are references to the provisions codified at 19 CFR Part 351 (2001).

The Petitions

On September 28, 2001, the Department of Commerce (the Department) received petitions filed in proper form by the following parties: Bethlehem Steel Corporation, LTV Steel Company, Inc., National Steel Corporation,¹ Nucor Corporation, Steel Dynamics, Inc., United States Steel LLC., WCI Steel, Inc., and Weirton Steel Corporation ² (collectively, the petitioners). The Department received information supplementing the petitions on October 12, 2001 and on October 18, 2001, petitioners submitted additional information concerning industry support.

¹ National Steel Corporation is not a petitioner in the Japan case.

² Weirton Steel Corporation is not a petitioner in the Netherlands case.

In accordance with section 732(b) of the Act, the petitioners allege that imports of certain cold-rolled carbon steel flat products (cold-rolled steel) from Argentina, Australia, Belgium, Brazil, France, Germany, India, Japan, Korea, the Netherlands, New Zealand, the People's Republic of China, the Russian Federation, South Africa, Spain, Sweden, Taiwan, Thailand, Turkey, and Venezuela are being, or are likely to be, sold in the United States at less than fair value within the meaning of section 731 of the Act, and that such imports are materially injuring, or are threatening to materially injure, an industry in the United States.

The Department finds that the petitioners filed these petitions on behalf of the domestic industry because they are interested parties as defined in sections 771(9)(C) of the Act and have demonstrated sufficient industry support with respect to each of the antidumping investigations that they are requesting the Department to initiate. (See the Determination of Industry Support for the Petitions section below.)

Scope of Investigations

For purposes of these investigations, the products covered are certain cold-rolled (cold-reduced) flat-rolled carbon-quality steel products, neither clad, plated, nor coated with metal, but whether or not annealed, painted, varnished, or coated with plastics or other non-metallic substances, both in coils, 0.5 inch wide or wider, (whether or not in successively superimposed layers and/or otherwise coiled, such as spirally oscillated coils), and also in straight lengths, which, if less than 4.75 mm in thickness, having a width that is 0.5 inch or greater and that measures at least 10 times the thickness; or, if of a thickness of 4.75 mm or more, having a width exceeding 150 mm and measuring at least twice the thickness. The products described above may be rectangular, square, circular or other shape and include products of either rectangular or non-rectangular cross-section.

Specifically included in this scope are vacuum degassed, fully stabilized (commonly referred to as interstitial-free (IF)) steels, high strength low alloy (HSLA) steels, and motor lamination steels. IF steels are recognized as low carbon steels with micro-alloying levels of elements such as titanium and/or niobium added to stabilize carbon and nitrogen elements. HSLA steels are recognized as steels with micro-alloying levels of elements such as chromium, copper, niobium, titanium, vanadium, and molybdenum. Motor lamination steels contain micro-alloying levels of elements such as silicon and aluminum.

Steel products included in the scope of this investigation, regardless of definitions in the Harmonized Tariff Schedules of the United States (HTSUS), are products in which: (1) Iron predominates, by weight, over each of the other contained elements; (2) the carbon content is 2 percent or less, by weight, and; (3) none of the elements listed below exceeds the quantity, by weight, respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium (also called columbium), or 0.15 percent of vanadium, or 0.15 percent of zirconium.

All products that meet the written physical description, and in which the chemistry quantities do not exceed any one of the noted element levels listed above, are within the scope of this investigation unless specifically excluded. The following products, by way of example, are outside and/or specifically excluded from the scope of this investigation:

• SAE grades (formerly also called AISI grades) above 2300;

• Ball bearing steels, as defined in the HTSUS;

• Tool steels, as defined in the HTSUS;

• Silico-manganese steel, as defined in the HTSUS;

• Silicon-electrical steels, as defined in the HTSUS, that are grain-oriented;

• Silicon-electrical steels, as defined in the HTSUS, that are not grain-oriented and that have a silicon level exceeding 2.25 percent;

• All products (proprietary or otherwise) based on an alloy ASTM specification (sample specifications: ASTM A506, A507);

• Non-rectangular shapes, not in coils, which are the result of having been processed by cutting or stamping and which have assumed the character of articles or products classified outside chapter 72 of the HTSUS;

• Silicon-electrical steels, as defined in the HTSUS, that are not grain-oriented and that have a silicon level less than 2.25 percent, and (a) fully-processed, with a core loss of less than 0.14 watts/pound per mil (0.001 inch), or (b) semi-processed, with core loss of less than 0.085 watts/pound per mil (0.001 inch);

• Certain shadow mask steel, which is aluminum killed cold-rolled steel coil that is open coil annealed, has an ultra-flat, isotropic surface, and which meets the following characteristics:

Thickness: 0.001 to 0.010 inch

Width: 15 to 32 inches

Chemical Composition
Element | C
Weight% | <0.002%

• Certain flapper valve steel, which is hardened and tempered, surface polished, and which meets the following characteristics:

Thickness: ≤1.0 mm

Width: ≤152.4 mm

Chemical Composition
Element | C | Si | Mn | P | S
Weight % | 0.90-1.05 | 0.15-0.35 | 0.30-0.50 | ≤0.03 | ≤0.006

Mechanical Properties
Tensile Strength | ≥162 Kgf/mm ².
Hardness | ≥475 Vickers hardness number.

Physical Properties
Flatness | <0.2% of nominal strip width.

Microstructure: Completely free from decarburization. Carbides are spheroidal and fine within 1% to 4% (area percentage) and are undissolved in the uniform tempered martensite.

Non-metallic Inclusion
| Area percentage
Sulfide Inclusion | ≤0.04
Oxide Inclusion | ≤0.05%

Compressive Stress: 10 to 40 Kgf/mm ²
Surface Roughness
Thickness (mm) | Roughness (μm)
t≤0.209 | Rz≤0.5
0.209<t≤0.310 | Rz≤0.6
0.310<t≤0.310 | Rz≤0.7
0.440<t≤0.560 | Rz≤0.8
0.560<t | Rz≤1.0

• Certain ultra thin gauge steel strip, which meets the following characteristics:

Thickness: ≤0.100 mm ±7%

Width 100 to 600 mm

Chemical Composition
Element | C | Mn | P | S | Al | Fe
Weight % | ≤0.07 | 0.2-0.5 | ≤0.05 | ≤0.05 | ≤0.07 | Balance

Mechanical Properties
Hardness | Full Hard (Hv 180 minimum)
Total Elongation | <3%
Tensile Strength | 600 to 850 N/mm ²

Physical Properties
Surface Finish | ≤0.3 micron
Camber (in 2.0 m) | <3.0 mm.
Flatness (in 2.0 m) | ≤0.5 mm.
Edge Burr | <0.01 mm greater than thickness
Coil Set (in 1.0 m) | <75.0 mm.

• Certain silicon steel, which meets the following characteristics:

Thickness: 0.024 inch ±.0015 inch

Width: 33 to 45.5 inches

Chemical Composition
Element | C | Mn | P | S | Si | Al
Min. Weight % |  |  |  |  | 0.65
Max. Weight % | 0.004 | 0.4 | 0.09 | 0.009 |  | 0.4

Mechanical Properties
Hardness | B 60-75 (AIM 65)

Physical Properties
Finish Smooth | (30-60 microinches).
Gamma Crown (in 5 inches) | 0.0005 inch, start measuring one-quarter inch from slit edge.
Flatness | 20 I-UNIT max
Coating | C3A-.08A max. (A2 coating acceptable).
Camber (in any 10 feet) | 1/16 inch.
Coil Size I.D | 20 inches.

Magnetic Properties
Core Loss (1.5T/60 Hz) NAAS | 3.8 Watts/Pound max.
Permeability (1.5T/60 Hz) NAAS | 1700 gauss/oersted typical, 1500 minimum.

• Certain aperture mask steel, which has an ultra-flat surface flatness and which meets the following characteristics:

Thickness: 0.025 to 0.245 mm

Width: 381-1000 mm

Chemical Composition
Element | C | N | Al
Weight % | <0.01 | 0.004 to 0.007 | <0.007

• Certain annealed and temper-rolled cold-rolled continuously cast steel, which meets the following characteristics:

Chemical Composition
Element | C | Mn | P | S | Si | Al | As | Cu | B | N
Min. Weight % | 0.02 | 0.20 |  |  |  | 0.03 |  |  |  | 0.003
Max. Weight % | 0.06 | 0.40 | 0.02 | 0.023 | 0.03 | 0.08 | 0.02 |  | 0.08 | 0.008
|  |  |  | (Aiming 0.018 Max.) |  | (Aiming 0.05) |  |  |  | (Aiming 0.005)

Non-metallic Inclusions: Examination with the S.E.M. shall not reveal individual oxides >1 micron (0.000039 inch) and inclusion groups or clusters shall not exceed 5 microns (0.000197 inch) in length.

Surface Treatment as follows:

The surface finish shall be free of defects (digs, scratches, pits, gouges, slivers, etc.) and suitable for nickel plating.

Surface Finish
| Roughness, RA microinches (micrometers): Aim | Roughness, RA microinches (micrometers): Min. | Roughness, RA microinches (micrometers): Max.
Extra Bright | 5 (0.1) | 0 (0) | 7 (0.2)

• Certain annealed and temper-rolled cold-rolled continuously cast steel, in coils, with a certificate of analysis per Cable System International (“CSI”) Specification 96012, with the following characteristics:

Chemical Composition
Element | C | Mn | P | S
Max Weight % | 0.13 | 0.60 | 0.02 | 0.05

Physical and Mechanical Properties
Base Weight | 55 pounds.
Theoretical Thickness | 0.0061 inch (+/−10 percent of theoretical thickness).
Width | 31 inches.
Tensile Strength | 45,000-55,000 psi.
Elongation | minimum of 15 percent in 2 inches.

• Concast cold-rolled drawing quality sheet steel, ASTM a-620-97, Type B, or single reduced black plate, ASTM A-625-92, Type D, T-1, ASTM A-625-76 and ASTM A-366-96, T1-T2-T3 Commercial bright/luster 7a both sides, RMS 12 maximum. Thickness range of 0.0088 to 0.038 inches, width of 23.0 inches to 36.875 inches.

• Certain single reduced black plate, meeting ASTM A-625-98 specifications, 53 pound base weight (0.0058 inch thick) with a Temper classification of T-2 (49-57 hardness using the Rockwell 30 T scale).

• Certain single reduced black plate, meeting ASTM A-625-76 specifications, 55 pound base weight, MR type matte finish, TH basic tolerance as per A263 trimmed.

• Certain single reduced black plate, meeting ASTM A-625-98 specifications, 65 pound base weight (0.0072 inch thick) with a Temper classification of T-3 (53-61 hardness using the Rockwell 30 T scale).

• Certain cold-rolled black plate bare steel strip, meeting ASTM A-625 specifications, which meet the following characteristics:

Chemical Composition
Element | C | Mn | P | S
Max. Weight % | 0.13 | 0.60 | 0.02 | 0.05

Physical and Mechanical Properties
Thickness | 0.0058 inch ±0.0003 inch.
Hardness | T2/HR 30T 50-60 aiming.
Elongation | ≥15%.
Tensile Strength | 51,000.0 psi ±4.0.

• Certain cold-rolled black plate bare steel strip, in coils, meeting ASTM A-623, Table II, Type MR specifications, which meet the following characteristics:

Chemical Composition
Element | C | Mn | P | S
Max. Weight % | 0.13 | 0.60 | 0.04 | 0.05

Physical and Mechanical Properties
Thickness | 0.0060 inch (±0.0005 inch).
Width | 10 inches (+¼ to ⅜ inch/−0).
Tensile Strength | 55,000 psi max.
Elongation | Minimum of 15 percent in 2 inches.

• Certain “blued steel” coil (also known as “steamed blue steel” or “blue oxide”) with a thickness of 0.30 mm to 0.42 mm and width of 609 mm to 1219 mm, in coil form;

• Certain cold-rolled steel sheet, coated with porcelain enameling prior to importation, which meets the following characteristics:

Thickness (nominal): ≤0.019 inch

Width: 35 to 60 inches

Chemical Composition
Element | C | O | B
Max. Weight % | 0.004
Min. Weight % |  | 0.010 | 0.012

• Certain cold-rolled steel, which meets the following characteristics:

Width: >66 inches

Chemical Composition
Element | C | Mn | P | Si
Max. Weight% | 0.07 | 0.67 | 0.14 | 0.03

Physical and Mechanical Properties
Thickness Range (mm) | 0.800-2.000
Min. Yield Point (MPa) | 265
Max Yield Point (MPa) | 365
Min. Tensile Strength (MPa) | 440
Min. Elongation % | 26

• Certain band saw steel, which meets the following characteristics:

Thickness: ≤ 1.31 mm

Width: ≤ 80 mm

Chemical Composition
Element | C | Si | Mn | P | S | Cr | Ni
Weight % | 1.2 to 1.3 | 0.15 to 0.35 | 0.20 to 0.35 | ≤0.03 | ≤0.007 | 0.3 to 0.5 | ≤0.25

Other properties:

Carbide: Fully spheroidized having >80% of carbides, which are ≤0.003 mm and uniformly dispersed

Surface finish: Bright finish free from pits, scratches, rust, cracks, or seams Smooth edges.

Edge camber (in each 300 mm of length): ≤ 7 mm arc height

Cross bow (per inch of width): 0.015 mm max.

• Certain transformation-induced plasticity (TRIP) steel, which meets the following characteristics:

Variety 1:

Chemical Composition
Element | C | Si | Mn
Min. Weight % | 0.09 | 1.0 | 0.90
Max. Weight % | 0.13 | 2.1 | 1.7

Physical and Mechanical Properties
Thickness Range (mm) | 1.000-2.300 (inclusive).
Min. Yield Point (MPa) | 320.
Max Yield Point (MPa) | 480.
Min. Tensile Strength (MPa) | 590.
Min. Elongation % | 24 (if 1.000-1.199 thickness range).
| 25 (if 1.200-1.599 thickness range).
| 26 (if 1.600-1.999 thickness range).
| 27 (if 2.000-2.300 thickness range).

Variety 2:

Chemical Composition
Element | C | Si | Mn
Min. Weight % | 0.12 | 1.5 | 1.1
Max. Weight % | 0.16 | 2.1 | 1.9

Physical and Mechanical Properties
Thickness Range (mm) | 1.000-2.300 (inclusive).
Min. Yield Point (MPa) | 340.
Max Yield Point (MPa) | 520.
Min. Tensile Strength (MPa) | 690.
Min. Elongation % | 21 (if 1.000-1.199 thickness range).
| 22 (if 1.200-1.599 thickness range).
| 23 (if 1.600-1.999 thickness range).
| 24 (if 2.000-2.300 thickness range).

Variety 3:

Chemical Composition
Element | C | Si | Mn
Min. Weight % | 0.13 | 1.3 | 1.5
Max. Weight % | 0.21 | 2.0 | 2.0

Physical and Mechanical Properties
Thickness Range (mm) | 1.200-2.300 (inclusive).
Min. Yield Point (MPa) | 370.
Max Yield Point (MPa) | 570.
Min. Tensile Strength (MPa) | 780.
Min. Elongation % | 18 (if 1.200-1.599 thickness range).
| 19 (if 1.600-1.999 thickness range).
| 20 (if 2.000-2.300 thickness range).

• Certain cold-rolled steel, which meets the following characteristics:

Variety 1:

Chemical Composition
Element | C | Mn | P | Cu
Min. Weight % |  |  |  | 0.15
Max. Weight % | 0.10 | 0.40 | 0.10 | 0.35

Physical and Mechanical Properties
Thickness Range (mm) | 0.600-0.800
Min. Yield Point (MPa) | 185
Max Yield Point (MPa) | 285
Min. Tensile Strength (MPa) | 340
Min. Elongation | 31 (ASTM standard 31% = JIS standard 35%)

Variety 2:

Chemical Composition
Element | C | Mn | P | Cu
Min. Weight % |  |  |  | 0.15
Max. Weight % | 0.05 | 0.40 | 0.08 | 0.35

Physical and Mechanical Properties
Thickness Range (mm) | 0.800-1.000
Min. Yield Point (MPa) | 145
Max Yield Point (MPa) | 245
Min. Tensile Strength (MPa) | 295
Min. Elongation % | 31 (ASTM standard 31% = JIS standard 35%)

Variety 3:

Chemical Composition
Element | C | Si | Mn | P | S | Cu | Ni | Al | Nb, Ti, V, B | Mo
Max. Weight % | 0.01 | 0.05 | 0.40 | 0.10 | 0.023 | 0.15-.35 | 0.35 | 0.10 | 0.10 | 0.30

Physical and Mechanical Properties
Thickness (mm): | 0.7
Elongation %: ≥ | 35

• Porcelain enameling sheet, drawing quality, in coils, 0.014 inch in thickness, +0.002, −0.000, meeting ASTM A-424-96 Type 1 specifications, and suitable for two coats.

The merchandise subject to this investigation is typically classified in the HTSUS at subheadings: 7209.15.0000, 7209.16.0030, 7209.16.0060, 7209.16.0090, 7209.17.0030, 7209.17.0060, 7209.17.0090, 7209.18.1530, 7209.18.1560, 7209.18.2550, 7209.18.6000. 7209.25.0000, 7209.26.0000, 7209.27.0000, 7209.28.0000, 7209.90.0000, 7210.70.3000, 7210.90.9000, 7211.23.1500, 7211.23.2000, 7211.23.3000, 7211.23.4500, 7211.23.6030, 7211.23.6060, 7211.23.6085, 7211.29.2030, 7211.29.2090, 7211.29.4500, 7211.29.6030, 7211.29.6080, 7211.90.0000, 7212.40.1000, 7212.40.5000, 7212.50.0000, 7225.19.0000, 7225.50.6000, 7225.50.7000, 7225.50.8010, 7225.50.8085, 7225.99.0090, 7226.19.1000, 7226.19.9000, 7226.92.5000, 7226.92.7050, 7226.92.8050, and 7226.99.0000.

Although the HTSUS subheadings are provided for convenience and U.S. Customs Service (U.S. Customs) purposes, the written description of the merchandise under investigation is dispositive.

During our review of the petitions, we discussed the scope with the petitioners to ensure that the scope in the petition accurately reflects the product for which the domestic industry is seeking relief. Moreover, as discussed in the preamble to the Department's regulations (Antidumping Duties; Countervailing Duties; Final Rule, 62 FR 27296, 27323 (May 19, 1997)), we are setting aside a period for parties to raise issues regarding product coverage. The Department encourages all parties to submit such comments within 20 days of publication of this notice. Comments should be addressed to Import Administration's Central Records Unit at Room 1870, U.S. Department of Commerce, 14th Street and Constitution Avenue, NW, Washington, D.C. 20230. The period of scope consultations is intended to provide the Department with ample opportunity to consider all comments and consult with parties prior to the issuance of the preliminary determination.

Determination of Industry Support for the Petitions

Section 771(4)(A) of the Act defines the “industry as the producers as a whole of a domestic like product. Thus, when determining the degree of industry support, the statute directs the Department to look to producers and workers who produce the domestic like product. The International Trade Commission (ITC), which is responsible for determining whether “the domestic industry has been injured, must also determine what constitutes a domestic like product in order to define the industry. While both the Department and the ITC must apply the same statutory definition regarding the domestic like product (section 771(10) of the Act), they do so for different purposes and pursuant to separate and distinct authority. In addition, the Department's determination is subject to limitations of time and information. Although this may result in different definitions of the like product, such differences do not render the decision of either agency contrary to the law.³

³ See Algoma Steel Corp. Ltd., v. United States, 688 F. Supp. 639, 642-44 (CIT 1988); High Information Content Flat Panel Displays and Display Glass from Japan: Final Determination; Rescission of Investigation and Partial Dismissal of Petition, 56 FR 32376, 32380-81 (July 16, 1991).

Section 771(10) of the Act defines the domestic like product as “a product which is like, or in the absence of like, most similar in characteristics and uses with, the article subject to an investigation under this title.” Thus, the reference point from which the domestic like product analysis begins is “the article subject to an investigation, i.e., the class or kind of merchandise to be investigated, which normally will be the scope as defined in the petitions. Moreover, the petitioners do not offer a definition of domestic like product distinct from the scope of the investigation.

The petitions cover certain cold-rolled steel as defined in the Scope of the Investigation section, above, a single class or kind of merchandise. The Department has no basis on the record to find the petitioners' definition of the domestic like product to be inaccurate. The Department, therefore, has adopted the domestic like product definition set forth in the petitions.

Section 732(b)(1) of the Act requires that a petition be filed on behalf of the domestic industry. Section 732(c)(4)(A) of the Act provides that a petition meets this requirement if the domestic producers or workers who support the petition account for: (1) At least 25 percent of the total production of the domestic like product; and (2) more than 50 percent of the production of the domestic like product produced by that portion of the industry expressing support for or opposition to the petition. Finally, section 732(c)(4)(D) of the Act provides that if the petition does not establish support of domestic producers or workers accounting for more than 50 percent of the total production of the domestic like product, the administering agency shall: (i) Poll the industry or rely on other information in order to determine if there is support for the petition as required by subparagraph (A), or (ii) determine industry support using any statistically valid sampling method to poll the industry.

The Department has determined, pursuant to section 732(c)(4)(D), that there is support for the petitions as required by subparagraph (A). Specifically, the Department made the following determinations. For Argentina, Australia, Belgium, Brazil, France, Germany, India, Japan, Korea, the Netherlands, New Zealand, the People's Republic of China, the Russian Federation, South Africa, Spain, Sweden, Taiwan, Thailand, Turkey, and Venezuela, the petitioners established industry support representing over 50 percent of total production of the domestic like product. Therefore, the domestic producers or workers who support the petitions account for at least 25 percent of the total production of the domestic like product, and the requirements of section 732(c)(4)(A)(i) are met. Furthermore, because the Department received no opposition to the petitions, the domestic producers or workers who support the petitions account for more than 50 percent of the production of the domestic like product produced by that portion of the industry expressing support for or opposition to the petitions. Thus, the requirements of section 732(c)(4)(A)(ii) are also met. Accordingly, the Department determines that the petitions were filed on behalf of the domestic industry within the meaning of section 732(b)(1) of the Act. See the Initiation Checklist.

Export Price and Normal Value

The following are descriptions of the allegations of sales at less than fair value upon which the Department has based its decision to initiate these investigations. The sources of data for the deductions and adjustments relating to home market price, U.S. price, constructed value (CV) and factors of production (FOP) are detailed in the Initiation Checklist. Where the petitioners obtained data from foreign market research, we contacted the researchers to establish their credentials and to confirm the validity of the information being provided. See e.g., Memorandum to the File from Fred Baker: Contacts with Source of Market Research for Antidumping Petitions Regarding Imports of Cold-Rolled Steel from Australia, Belgium, France, Germany, India, Japan, Korea, the Netherlands, and Thailand (October 18, 2001) (Market Research for Australia, Belgium, France, Germany, India, Japan, Korea, the Netherlands, and Thailand).

The margins alleged in the petitions are as follows: Argentina, 89.89 percent; Australia, 24.06 percent; Belgium, 25.41 percent; Brazil, 26.4 percent; France, 7.93 to 22.12 percent; Germany, 17.41 to 26.03 percent; India, 153.65 percent; Japan, 109.90 to 115.22 percent; Korea, 45.77 to 53.72 percent; the Netherlands, 58.50 to 58.61 percent; New Zealand, 21.72 percent; the People's Republic of China, 70.68 to 74.16 percent; the Russian Federation, 130.58 to 137.33 percent; South Africa, 54.59 percent; Spain, 45.88 percent; Sweden, 40.54 percent; Taiwan, 16.8 percent; Thailand, 112.09 to 142.78 percent; Turkey, 28.23 to 51.71 percent; and Venezuela, 53.9 percent.

The Department has analyzed the information in the petitions and considers the country-wide import statistics for the anticipated period of investigation (POI), price quotes, and market research information used to calculate the estimated margins for the subject countries to be sufficient for purposes of initiation. Based on the information submitted in the petitions, adjusted where appropriate, we are initiating these investigations, as discussed below and in the Initiation Checklist. Should the need arise to use any of this information as facts available under section 776 of the Act in our preliminary or final determinations, we may re-examine the information and revise the margin calculations, if appropriate.

Period of Investigation

The anticipated POI for the market economy countries is July 1, 2000, through June 30, 2001, while the anticipated POI for the People's Republic of China and the Russian Federation, the non-market economy (NME) countries, is January 1, 2001, through June 30, 2001.

Non-Market Economies

Regarding an investigation involving an NME, the Department presumes, based on the extent of central government control in an NME, that a single dumping margin, should there be one, is appropriate for all NME exporters in the given country. See, Notice of Final Determination of Sales at Less Than Fair Value: Steel Concrete Reinforcing Bars from Moldova, 66 FR 33525 (June 22, 2001) and Notice of Final Determination of Sales at Less Than Fair Value: Solid Agricultural Ammonium Nitrate from Ukraine, 66 FR 38632 (July 25, 2001). In the course of these investigations, all parties will have the opportunity to provide relevant information related to the issues of the People's Republic of China's and the Russian Federation's NME status and the granting of separate rates to individual exporters.

Argentina

Export Price

The petitioners based export price (EP) on price quotes from an Argentine producer to an unaffiliated U.S. purchaser for grades and sizes of subject merchandise comparable with products falling under one HTSUS category. In order to obtain ex-factory prices, the petitioners deducted international transportation and customs duty, ocean freight, U.S. inland freight, and U.S. custom duties from the sales value.

Normal Value

With respect to normal value (NV), the petitioners provided home market prices that were obtained from foreign market research for grades and sizes of cold-rolled steel comparable to the products exported to the United States which serve as the basis for EP. The quoted price was given in U.S. dollars per metric ton. In order to obtain ex-factory prices, the petitioners deducted inland freight from the sales value.

Based on an examination of the information submitted in the petition, adjusted where appropriate, and comparing EP to NV, we have determined that, for purposes of this initiation, there is a reasonable basis to believe or suspect that dumping has occurred (see Initiation Checklist).

Australia

Export Price

The petitioners based EP on import average unit value (AUV) data from official U.S. Census Bureau statistics for the POI for one HTSUS category. The petitioners did not make any adjustment to the AUV data when calculating EP, because they argued that using an unadjusted AUV as the export price is a conservative methodology.

Normal Value

With respect to NV, the petitioners provided home market prices that were obtained from foreign market research for grades and sizes of cold-rolled steel comparable to the products exported to the United States, which serve as the basis for EP. The home market price was in effect during the period of the AUV data. The petitioners made an adjustment for home market credit expenses.

Based on an examination of the information submitted in the petition, adjusted where appropriate, and comparing EP to NV, we have determined that, for purposes of this initiation, there is a reasonable basis to believe or suspect that dumping has occurred (see Initiation Checklist).

Belgium

Export Price

The petitioners based EP on import AUV data from official U.S. Census Bureau statistics for the POI for two HTSUS categories. The petitioners did not make any adjustment to the AUV data when calculating EP, because they argued that using an unadjusted AUV as the export price is a conservative methodology.

Normal Value

With respect to NV, the petitioners obtained home market price quotes in effect during the POI from foreign market research, for specific products representative of the HTSUS categories which served as the basis for EP. These prices were in effect during the period of the AUV data. The market researcher provided a table for calculating price extras based on the dimensions of the product. The petitioners selected products from the middle of the width and thickness ranges for the two HTSUS categories used to calculate EP. Based on the selected product dimensions, they used the table to calculate the price extras. The petitioners made no other adjustments to NV.

Price-to-CV Comparisons

The petitioners also provided information demonstrating reasonable grounds to believe or suspect that sales of cold-rolled steel in the home market were made at prices below the fully absorbed cost of production (COP), within the meaning of section 773(b) of the Act, and requested that the Department conduct a country-wide sales-below-cost investigation.

Pursuant to section 773(b)(3) of the Act, COP consists of cost of manufacturing (COM), selling, general and administrative (SG&A) expenses, and packing. The petitioners calculated COM based on their own production experience, adjusted for known differences between costs incurred to produce cold-rolled steel in the United States and Belgium using publicly available data. To calculate SG&A and interest expense, the petitioners relied upon amounts reported in a Belgian cold-rolled producer's 2000 financial statements. Based upon a comparison of the prices of the foreign like product in the home market to the calculated COP of the product, we find reasonable grounds to believe or suspect that sales of the foreign like product were made below the COP, within the meaning of section 773(b)(2)(A)(i) of the Act. Accordingly, the Department is initiating a country-wide cost investigation.

Based on the cost data discussed above, petitioners found that the Belgian home market selling prices were below the COP. Therefore, pursuant to sections 773(a)(4), 773(b) and 773(e) of the Act, the petitioners based NV for sales in Belgium on CV. The petitioners calculated CV using the same COM, depreciation, SG&A and interest expense figures used to compute Belgian home market costs. Consistent with section 773(e)(2) of the Act, the petitioners included in CV an amount for profit. For profit, the petitioners relied upon amounts reported in the Belgian cold-rolled producer's 2000 financial statements.

Based on an examination of the information submitted in the petition, adjusted where appropriate, and comparing EP to CV, we have determined that, for purposes of this initiation, there is a reasonable basis to believe or suspect that dumping has occurred (see Initiation Checklist).

Brazil

Export Price

The petitioners based EP on import AUV data from official U.S. Census Bureau statistics for the POI for one HTSUS number. This HTSUS number encompasses the type of merchandise in the price quote used to establish NV. The petitioners state that the import statistics are ex-factory export prices. Petitioners did not make any adjustment to the AUV data when calculating EP, because they argued that using an unadjusted AUV as the export price is a conservative methodology.

Normal Value

With respect to NV, the petitioners provided home market prices that were obtained from foreign market research for grades and sizes of cold-rolled steel encompassed by the HTSUS category in the AUV data used to establish EP. The home market price was in effect during the period of the AUV data. Because the price quote was ex-works, petitioners made no adjustments to the price quote when calculating NV.

Based on an examination of the information submitted in the petition, adjusted where appropriate, and comparing EP to NV, we have determined that, for purposes of this initiation, there is a reasonable basis to believe or suspect that dumping has occurred (see Initiation Checklist).

France

Export Price

The petitioners based EP on import AUV data from official U.S. Census Bureau statistics for the POI for two HTSUS categories. The petitioners did not make any adjustment to the AUV data when calculating EP, because they argued that using an unadjusted AUV as the export price is a conservative methodology.

Normal Value

With respect to NV, the petitioners provided home market prices that were obtained from foreign market research. The petitioners state that the home market price quotations were ex-factory, exclusive of all taxes and inclusive of quantity rebates. The market researcher provided a table for calculating price extras based on the dimensions of the product. Petitioners calculated the price extra for each HTSUS category by averaging the price extra for each length-width combination on the chart that falls within the length-width range of the HTSUS category, and adjusted the prices accordingly.

Price-to-CV Comparisons

The petitioners also provided information demonstrating reasonable grounds to believe or suspect that sales of cold-rolled steel in the home market were made at prices below the fully absorbed COP, within the meaning of section 773(b) of the Act, and requested that the Department conduct a country-wide sales-below-cost investigation.

Pursuant to section 773(b)(3) of the Act, COP consists of COM, SG&A expenses, and packing. The petitioners calculated COM based on their own experience, adjusted for known differences between costs incurred to produce cold-rolled steel in the United States and France using publicly available data. To calculate depreciation, SG&A, and interest, the petitioners used the consolidated, 2000 financial statements of a French cold-rolled steel producer that petitioners believe to be representative of cold-rolled steel producers in France. Based upon a comparison of the prices of the foreign like product in the home market to the calculated COP of the product, we find reasonable grounds to believe or suspect that sales of the foreign like product were made below the COP, within the meaning of section 773(b)(2)(A)(i) of the Act. Accordingly, the Department is initiating a country-wide cost investigation.

Based on the cost data discussed above, petitioners found that the French home market selling prices were below the COP. Therefore, pursuant to sections 773(a)(4), 773(b) and 773(e) of the Act, the petitioners based NV for sales in France on CV. The petitioners calculated CV using the same COM, SG&A and interest expense figures used to compute French home market costs. Consistent with section 773(e)(2) of the Act, the petitioners included in CV an amount for profit. For profit, the petitioners relied upon amounts reported in the same French steel producer's consolidated 2000 financial statements.

Based on an examination of the information submitted in the petition, adjusted where appropriate, and comparing EP to CV, we have determined that, for purposes of this initiation, there is a reasonable basis to believe or suspect that dumping has occurred (see Initiation Checklist).

Germany

Export Price

The petitioners based EP on import AUV data from official U.S. Census Bureau statistics for the POI for two HTSUS categories. The petitioners did not make any adjustment to the AUV data when calculating EP, because they argued that using an unadjusted AUV as the export price is a conservative methodology.

Normal Value

With respect to NV, the petitioners provided home market prices that were obtained from foreign market research. The petitioners state that the home market price quotations were ex-factory, exclusive of all taxes and inclusive of quantity rebates. The market researcher provided a table for calculating price extras based on the dimensions of the product. Petitioners calculated the price extra for each HTSUS category by averaging the price extra for each length-width combination on the chart that falls within the length-width range of the HTSUS category, and adjusted the prices accordingly. No other adjustments to prices were made.

Price-to-CV Comparisons

The petitioners also provided information demonstrating reasonable grounds to believe or suspect that sales of cold-rolled steel in the home market were made at prices below the fully absorbed COP, within the meaning of section 773(b) of the Act, and requested that the Department conduct a country-wide sales-below-cost investigation.

Pursuant to section 773(b)(3) of the Act, COP consists of COM, SG&A expenses, and packing. The petitioners calculated COM based on their own production experience, adjusted for known differences between costs incurred to produce cold-rolled steel in the United States and Germany using publicly available data. To determine depreciation, SG&A, and interest, the petitioners used the consolidated, 2000 financial statements of a German cold-rolled steel producer that petitioners believe to be representative of cold-rolled steel producers in Germany. Based upon a comparison of the prices of the foreign like product in the home market to the calculated COP of the product, we find reasonable grounds to believe or suspect that sales of the foreign like product were made below the COP, within the meaning of section 773(b)(2)(A)(i) of the Act. Accordingly, the Department is initiating a country-wide cost investigation.

Based on the cost data discussed above, petitioners found that the German home market selling prices were below the COP. Therefore, pursuant to sections 773(a)(4), 773(b) and 773(e) of the Act, the petitioners based NV for sales in Germany on CV. The petitioners calculated CV using the same COM, SG&A and interest expense figures used to compute German home market costs. Consistent with section 773(e)(2) of the Act, the petitioners included in CV an amount for profit. The petitioners relied upon amounts reported in the same German steel producer's consolidated 2000 financial statements to determine the amount for profit.

Based on an examination of the information submitted in the petition, adjusted where appropriate, and comparing EP to CV, we have determined that, for purposes of this initiation, there is a reasonable basis to believe or suspect that dumping has occurred (see Initiation Checklist).

India

Export Price

Petitioners obtained an offer which documents the sales terms for certain Indian cold-rolled steel in the United States. Petitioners calculated a net U.S. price by deducting port charges, freight charges, shipping charges, custom duties, and trading company mark-up. No other adjustments to prices were made.

Normal Value

With respect to NV, the petitioners provided home market prices that were obtained from foreign market research for grades and sizes of cold-rolled steel comparable to the products exported to the United States, which serve as the basis for EP. The petitioners made no adjustment to NV.

Price-to-CV Comparisons

The petitioners also provided information demonstrating reasonable grounds to believe or suspect that sales of cold-rolled steel in the home market were made at prices below the fully absorbed COP, within the meaning of section 773(b) of the Act, and requested that the Department conduct a country-wide sales-below-cost investigation.

Pursuant to section 773(b)(3) of the Act, COP consists of COM, SG&A expenses, and packing. The petitioners used publicly available data from Ispat Industries, Ltd.'s (Ispat's) March 31, 2001 financial statements for the cost of the raw material input, hot-rolled coil. The cost of transforming the hot-rolled coil into subject merchandise was based on petitioners' own experience adjusted for known differences between costs incurred to produce cold-rolled steel in the United States and India using publicly available data. To calculate depreciation, SG&A and interest expense, the petitioners relied upon amounts reported in Ispat's 2001 financial statements. However, because Ispat does not separately report depreciation attributable to the company's cold-rolling operations, petitioners excluded depreciation relative to the cold-rolling operations from the calculation of COP. Based upon a comparison of the prices of the foreign like product in the home market to the calculated COP of the product, we find reasonable grounds to believe or suspect that sales of the foreign like product were made below the COP, within the meaning of section 773(b)(2)(A)(i) of the Act. Accordingly, the Department is initiating a country-wide cost investigation.

Based on the cost data discussed above, petitioners found that the Indian home market selling prices were below the COP. Therefore, pursuant to sections 773(a)(4), 773(b) and 773(e) of the Act, the petitioners based NV for sales in India on CV. The petitioners calculated CV using the same COM, SG&A and interest expense figures used to compute Indian home market costs. Consistent with section 773(e)(2) of the Act, the petitioners included in CV an amount for profit. For profit, the petitioners relied upon amounts reported in Tata Iron and Steel Company, Ltd.'s 2001 financial statements because Ispat reported a net loss for the year. Because the Department prefers COM, SG&A and profit to be obtained from the same source, we have included a profit rate of zero. However, if we need to rely on the use of facts otherwise available in the future, we will then pursue alternative methods for computing the profit rate.

Based on an examination of the information submitted in the petition, adjusted where appropriate, and comparing EP to CV, we have determined that, for purposes of this initiation, there is a reasonable basis to believe or suspect that dumping has occurred (see Initiation Checklist).

Japan

Export Price

To calculate EP, petitioners obtained two U.S. price quotes for merchandise produced in Japan for sale to the United States. Petitioners stated that the merchandise quoted would fall under HTSUS numbers 7209.16.00.90 and 7209.17.00.90. Because terms of sale were cost, insurance, and freight (CIF), petitioners made adjustments to these prices for ocean freight, customs duties, port charges (unloading and wharfage), and a trading company mark-up to calculate net EP. No other adjustments to prices were made.

Normal Value

With respect to NV, petitioners used foreign market research to obtain home market price quotes corresponding to the merchandise for which petitioners obtained its U.S. price information. Petitioners made no adjustments to the home market price. Although the petitioners provided information on home market prices, they also provided information demonstrating reasonable grounds to believe or suspect that sales of cold-rolled steel in the home market were made at prices below the fully absorbed COP, within the meaning of section 773(b) of the Act, and requested that the Department conduct a country-wide sales-below-cost investigation.

Price-to-CV Comparisons

Pursuant to section 773(b)(3) of the Act, COP consists of COM, SG&A expenses, and packing. The petitioners calculated COM based on their own production experience, adjusted for known differences between costs incurred to produce cold-rolled steel in the United States and Japan using publicly available data. To calculate SG&A and interest expense, the petitioners relied upon amounts reported in a Japanese cold-rolled producer's 2001 financial statements. Based upon a comparison of the prices of the foreign like product in the home market to the calculated COP of the product, we find reasonable grounds to believe or suspect that sales of the foreign like product were made below the COP, within the meaning of section 773(b)(2)(A)(i) of the Act. Accordingly, the Department is initiating a country-wide cost investigation.

Based on the cost data discussed above, petitioners found that the Japanese home market selling prices were below the COP. Therefore, pursuant to sections 773(a)(4), 773(b) and 773(e) of the Act, the petitioners based NV for sales in Japan on CV. The petitioners calculated CV using the same COM, SG&A and interest expense figures used to compute Japanese home market costs. Consistent with section 773(e)(2) of the Act, the petitioners included in CV an amount for profit. For profit, the petitioners relied upon amounts reported in the Japanese steel producer's 2001 financial statements.

Based on an examination of the information submitted in the petition, adjusted where appropriate, and comparing EP to CV, we have determined that, for purposes of this initiation, there is a reasonable basis to believe or suspect that dumping has occurred (see Initiation Checklist).

Korea

Export Price

The petitioners based EP on import AUV data from official U.S. Census Bureau statistics for the POI for two HTSUS categories. The petitioners did not make any adjustment to the AUV data when calculating EP, because they argued that using an unadjusted AUV as the export price is a conservative methodology.

Normal Value

With respect to NV, the petitioners provided home market prices that were obtained from foreign market research for grades and sizes of cold-rolled steel comparable to the products exported to the United States, which serve as the basis for EP. The home market price employed was the average of the range of Korea's transaction prices reported in the foreign market research report and are for products comparable to the HTSUS categories used for EP. The petitioners state that the price is ex-factory and have made no adjustments.

Price-to-CV Comparisons

The petitioners also provided information demonstrating reasonable grounds to believe or suspect that sales of cold-rolled steel in the home market were made at prices below the fully absorbed COP, within the meaning of section 773(b) of the Act, and requested that the Department conduct a country-wide sales-below-cost investigation.

Pursuant to section 773(b)(3) of the Act, COP consists of COM, SG&A expenses, and packing. The petitioners' calculated COM based on their own experience, adjusted for known differences between costs incurred to produce cold-rolled steel in the United States and Korea using publicly available data. To calculate depreciation, SG&A, and interest, the petitioners used the consolidated, 2000 financial statements of a Korean cold-rolled steel producer that petitioners believe to be representative of cold-rolled steel producers in Korea. Based upon a comparison of the prices of the foreign like product in the home market to the calculated COP of the product, we find reasonable grounds to believe or suspect that sales of the foreign like product were made below the COP, within the meaning of section 773(b)(2)(A)(i) of the Act. Accordingly, the Department is initiating a country-wide cost investigation.

Based on the cost data discussed above, petitioners found that the Korean home market selling prices were below the COP. Therefore, pursuant to sections 773(a)(4), 773(b) and 773(e) of the Act, the petitioners based NV for sales in Korea on CV. The petitioners calculated CV using the same COM, SG&A and interest expense figures used to compute Korean home market costs. Consistent with section 773(e)(2) of the Act, the petitioners calculated an amount for profit. For profit, the petitioners relied upon amounts reported in the same Korean steel producer's consolidated 2000 financial statements. However, this amount was not included in their margin calculations.

Based on an examination of the information submitted in the petition, adjusted where appropriate, and comparing EP to CV, we have determined that, for purposes of this initiation, there is a reasonable basis to believe or suspect that dumping has occurred (see Initiation Checklist).

The Netherlands

Export Price

The petitioners based EP on import AUV data from official U.S. Census Bureau statistics for the POI for two HTSUS categories. The petitioners did not make any adjustment to the AUV data when calculating EP, because they argued that using an unadjusted AUV as the export price is a conservative methodology.

Normal Value

With respect to NV, the petitioners provided home market prices that were obtained from foreign market research for grades and sizes of subject merchandise comparable with products falling under two HTSUS categories 7209.16.00.90 and 7209.17.00.90, the products exported to the United States which serve as the basis for EP. The petitioners state that the home market price quotation excluded delivery charges (i.e., FOB plant) and they made an adjustment only for published price extras.

Price-to-CV Comparisons

Petitioners also provided information demonstrating reasonable grounds to believe or suspect that sales of cold-rolled steel in the home market were made at prices below the fully absorbed COP, within the meaning of section 773(b) of the Act, and requested that the Department conduct a country-wide sales-below-cost investigation.

Pursuant to section 773(b)(3) of the Act, COP consists of COM, SG&A expenses, and packing. Petitioners calculated COM based on their own production experience, adjusted for known differences between costs incurred to produce cold-rolled steel in the United States and the Netherlands using publicly available data. To calculate SG&A, petitioners relied upon amounts reported in a Dutch cold-rolled producer's consolidated 2000 financial statements. For interest expense, petitioners also used the Dutch company's consolidated 2000 financial statements. Based upon a comparison of the prices of the foreign like product in the home market to the calculated COP of the product, we find reasonable grounds to believe or suspect that sales of the foreign like product were made below the COP, within the meaning of section 773(b)(2)(A)(i) of the Act. Accordingly, the Department is initiating a country-wide cost investigation.

Based on the cost data discussed above, petitioners found that the Dutch home market selling prices were below the COP. Therefore, pursuant to sections 773(a)(4), 773(b) and 773(e) of the Act, petitioners based NV for sales in the Netherlands on CV. The petitioners calculated CV using the same COM, SG&A and interest expense figures used to compute Dutch home market costs. Consistent with section 773(3)(2) of the Act, petitioners included in CV an amount for profit. For profit, petitioners relied upon figures reported in the financial statements for the cold-rolled producer's parent company, because such information was not reported in the Dutch cold-rolled producer's financial statements.

Based on an examination of the information submitted in the petition, adjusted where appropriate, and comparing EP to CV, we have determined that, for purposes of this initiation, there is a reasonable basis to believe or suspect that dumping has occurred (see Initiation Checklist).

New Zealand

Export Price/Contructed Export Price

The petitioners based U.S. price on import AUV data from official U.S. Census Bureau statistics for the POI for one HTSUS category. Petitioners state that U.S. price should be based upon CEP because they believe that much if not all of the cold-rolled steel produced by New Zealand Steel Ltd. (NZS), a subsidiary of BHP Billiton, is sold by BHP Steel Americas, which is also owned by BHP Billiton. Therefore, petitioners argue that U.S. sales should be classified as CEP sales. However, as petitioners have no information regarding the nature or the amount of expenses incurred in the United States for BHP Steel Americas' sales of cold-rolled steel produced by NZS, they have made no adjustments to U.S. price to reflect CEP expenses. Therefore, we have used EP as the basis for our comparison.

Normal Value

With respect to NV, the petitioners provided home market prices that were obtained from sales offers for grades and sizes of cold-rolled steel comparable to the products exported to the United States, which serve as the basis for EP. The petitioners made an adjustment for home market freight expenses.

Based on an examination of the information submitted in the petition, adjusted where appropriate, and comparing EP to NV, we have determined that, for purposes of this initiation, there is a reasonable basis to believe or suspect that dumping has occurred (see Initiation Checklist).

The People's Republic of China

Export Price

The petitioners based EP on import AUV data from official U.S. Census Bureau statistics for the POI for two HTSUS categories. The petitioners did not make an adjustment to the AUV data for foreign inland freight when calculating EP, because they argued that most of the PRC producers' mills are close to the port.

Normal Value

Petitioners assert that the Department has long treated the PRC as an NME country. Pursuant to section 771(18)(C)(i) of the Act, because the PRC's status as an NME remains in effect, the petitioners determined the dumping margin using a FOP analysis.

The petitioners assert that information regarding the PRC's mills' consumption rates is not available. Therefore, petitioners based the FOP, as defined by section 773(c)(3) of the Act, on the consumption rates of one U.S. producer of the subject merchandise (U.S. surrogate). Petitioners assert that both the U.S. surrogate and the Chinese producers use basic oxygen converters to make steel.

Petitioners assert that India is the most appropriate surrogate country for the PRC, claiming that India is: (1) A market economy; (2) a significant producer of comparable merchandise; and (3) at a level of economic development comparable to the PRC in terms of per capita GNP. Based on the information provided by the petitioners, we believe that the petitioners' use of India as a surrogate country is appropriate for purposes of initiating this investigation.

For most raw material inputs, petitioners used the values reported in the Monthly Statistics of the Foreign Trade of India (Indian Import Statistics) for February 2001. The petitioners excluded the imports from NME countries in the calculation of import surrogate values. Petitioners believed that the Indian value of slag as given in the Indian Import Statistics was aberrational because it was over $1,000/ton. Therefore, petitioners used the price derived from Mineral Commodity Summaries, January 2001. Because this value was for the year 2000, petitioners inflated the value to June 2001 levels using the U.S. Producer's Price Index. Petitioners made a by-product offset to COM for coke oven gas, blast furnace gas, and salvageable scrap. They valued these by-products using the Indian Import Statistics. Regarding iron input costs, petitioners amended their original calculation in their amendment to the petitions dated October 12, 2001. Please see the proprietary discussion in the Initiation Checklist.

Petitioners valued direct labor using the labor rates indicated on the Import Administration's website (http://ia.ita.doc.gov/wages).

Petitioners valued electricity using Energy Prices and Taxes, Second Quarter 2001, published by the Organization for Economic Cooperation and Development's International Energy Agency. Because the latest price is for the year 1997, petitioners adjusted this price to June 2001 levels using the Indian wholesale price index. Petitioner took the surrogate value for natural gas from the 1999 financial report of EOG Resources, Inc. Because this figure is denominated in U.S. dollars, petitioners inflated this figure to June 2001 levels using the U.S. wholesale price index. Petitioners derived the surrogate value for blast furnace gas from a ratio the Department calculated and utilized in Final Determination of Sales at Less Than Fair Value: Hot-Rolled Flat-Rolled Carbon Quality Steel Products from the Russian Federation, 64 FR 38626 (July 19, 1999) (factor value memorandum). Petitioners took the surrogate values for oxygen, argon, and nitrogen from a price quote published in 1997 on the website of Bhoruka Gases Limited, an Indian gas manufacturer, adjusted for inflation.

For depreciation, overhead, SG&A expenses, and profit, the petitioners applied rates derived from the 2000-2001 financial statement of an Indian producer of subject merchandise, Tata Iron & Steel Co., Ltd.

Petitioners did not include packing materials in its computation because it was unable to obtain information on this expense. Petitioners valued packing labor using the direct labor rate published on the Department's website.

Based on an examination of the information submitted in the petition, adjusted where appropriate, and comparing EP to NV, we have determined that, for purposes of this initiation, there is a reasonable basis to believe or suspect that dumping has occurred (see Initiation Checklist).

The Russian Federation

Export Price

The petitioners based EP on the import AUV data from official U.S. Census Bureau statistics for the POI for two HTSUS categories. Petitioners deducted estimated foreign inland freight by applying a surrogate freight rate to the average distance from two Russian producers' mills to the nearest port. No other adjustments to prices were made.

Normal Value

Petitioners assert that the Department has long treated Russia as a NME country. Pursuant to section 771(18)(C)(i) of the Act, because Russia's status as an NME remains in effect, the petitioners determined the dumping margin using a FOP analysis.

The petitioners assert that information regarding Russian mills' consumption rates is not available. Therefore, petitioners based the FOP, as defined by section 773(c)(3) of the Act, on the consumption rates of one U.S. producer of the subject merchandise (U.S. surrogate). Petitioners assert that both the U.S. surrogate and the Russian producers use basic oxygen converters to make steel.

Petitioners assert that South Africa is the most appropriate surrogate country for the PRC, claiming that South Africa is: (1) A market economy; (2) a significant producer of comparable merchandise; and (3) at a level of economic development comparable to Russia in terms of per capita GNP. Based on the information provided by the petitioners, we believe that the petitioners' use of South Africa as a surrogate country is appropriate for purposes of initiating this investigation.

For most raw material inputs, petitioners used the values reported in the United Nations Commodity Trade Statistics (UNCTS) for 1998. The petitioners excluded the imports from NME countries in the calculation of import surrogate values. They adjusted these prices to June 2001 levels using the South African consumer price index. Petitioners believed that the South African values for slag and limestone as given in the UNCTS were too high and were, therefore, aberrational. Therefore, petitioners used the prices reported in the World Trade Atlas, compiled by Global Trade Information Services, Inc. Regarding iron input costs, petitioners amended their original calculation in their amendment to the petition dated October 12, 2001. Please see the proprietary discussion in the Initiation Checklist. Petitioners made a by-product offset to COM for coke oven gas, blast furnace gas, and salvageable scrap. They valued these by-products using the UNCTS.

Petitioners valued direct labor using the labor rates indicated on the Import Administration's website (http://ia.ita.doc.gov/wages).

Petitioners valued electricity using statistics reported in the 2000 annual financial statement of Eskom, the electricity provider in South Africa. Because the latest price is for the year 2000, petitioners adjusted this price to June 2001 levels using the South African wholesale price index. Petitioners took the surrogate value for natural gas from the 1999 edition of Key World Energy Statistics published by OECD's International Energy Agency. Petitioners applied an inflator based on the Producer's Price Index (PPI) to adjust it to June 2001 levels. Petitioners derived the surrogate value for blast furnace gas, oxygen, argon, and nitrogen from ratios the Department calculated and utilized in Final Determination of Sales at Less Than Fair Value: Hot-Rolled Flat-Rolled Carbon Quality Steel Products from the Russian Federation, 64 FR 38626 (July 19, 1999) (factor value memorandum).

For depreciation, overhead, SG&A expenses, and profit, the petitioners applied rates derived from the 1999-2000 financial statement of a South African steel producer.

Petitioners did not include packing materials in its computation because it was unable to obtain information on this expense. Petitioners valued packing labor using the direct labor rate published on Import Administration's website (http://ia.ita.doc.gov/wages).

Based on an examination of the information submitted in the petition, adjusted where appropriate, and comparing EP to NV, we have determined that, for purposes of this initiation, there is a reasonable basis to believe or suspect that dumping has occurred (see Initiation Checklist).

South Africa

Constructed Export Price

The petitioners identified one company that produces subject merchandise in South Africa. The petitioners state that this one producer accounts for the majority of all cold-rolled steel production in South Africa. Also, the petitioners state that this producer sells subject merchandise through its U.S. affiliate, a global trading company. The petitioners based CEP on the import AUV data from official U.S. Census Bureau statistics for the POI for one HTSUS category. This HTSUS category encompasses the type of merchandise in the price quote used to establish NV. The petitioners state that the import statistics are the ex-factory export prices and they made no adjustments for transportation to the AUV data when calculating CEP. The petitioners calculated a net U.S. price by subtracting port charges.

Normal Value

The petitioners based NV on domestic prices of cold-rolled steel comparable to the products exported during a month within the POI. The petitioners used prices for a recent offer for sale by Iscor, a South African company, to unaffiliated customers in South Africa as the starting point in calculating NV. The price quote covered the same products that were included in the HTSUS category used as the basis to establish EP. The petitioners adjusted this price by adding processing fees and by subtracting home market movement charges and home market credit expenses.

Based on an examination of the information submitted in the petition, adjusted where appropriate, and comparing EP to NV, we have determined that, for purposes of this initiation, there is a reasonable basis to believe or suspect that dumping has occurred (see Initiation Checklist).

Spain

Export Price

The petitioners based EP on import AUV data from official U.S. Census Bureau statistics for the POI for one HTSUS classification. This HTSUS classification encompasses the type of merchandise in the price quote used to establish NV. The petitioners did not make any adjustment to the AUV data when calculating EP, because they argued that using an unadjusted AUV as the export price is a conservative methodology.

Normal Value

With respect to NV, the petitioners provided home market prices that were obtained from foreign market research for grades and sizes of cold-rolled steel comparable to the products exported to the United States which serve as the basis for EP. The home-market price was in effect during the period of the AUV data. The price quote was ex-works so petitioners made no adjustments to the price quote when calculating NV.

Based on an examination of the information submitted in the petition, adjusted where appropriate, and comparing EP to NV, we have determined that, for purposes of this initiation, there is a reasonable basis to believe or suspect that dumping has occurred (see Initiation Checklist).

Sweden

Export Price

The petitioners based EP on import AUV data from official U.S. Census Bureau statistics for the POI for one HTSUS category. The petitioners did not make any adjustment to the AUV data when calculating EP, because they argued that using an unadjusted AUV as the export price is a conservative methodology.

Normal Value

From a market researcher, petitioners obtained an affidavit reporting the home market prices based upon a price quote from SSAB Svenskt Stal AB to an unaffiliated purchaser in Sweden. The quoted price was given in Swedish kroner per metric ton. The terms of sale were delivered. The petitioner deducted freight costs from the home market prices. Conservatively, the highest freight cost (i.e., maximum freight expense for longest distance) were used as stated in the given quote. The petitioners price quote did not include credit terms so no adjustment was made for credit expense. For comparisons to EP, the petitioners converted the net home market prices to U.S. dollars based on the average exchange rate in effect during the POI.

Based on an examination of the information submitted in the petition, adjusted where appropriate, and comparing EP to NV, we have determined that, for purposes of this initiation, there is a reasonable basis to believe or suspect that dumping has occurred (see Initiation Checklist).

Taiwan

Export Price

The petitioners based EP on import AUV data from official U.S. Census Bureau statistics for one HTSUS classification. This HTSUS classification encompasses the type of merchandise in the price quote used to establish NV. The petitioners did not make any adjustment to the AUV data when calculating EP, because they argued that using an unadjusted AUV as the export price is a conservative methodology.

Normal Value

With respect to NV, the petitioner obtained home market prices, through market research, for a grade of cold-rolled steel comparable to the product exported to the United States (which serves as the basis for EP). The home market price was in effect during the period of the AUV data. Petitioners made no adjustments to the price quote when calculating NV.

Based on an examination of the information submitted in the petition, adjusted where appropriate, and comparing EP to NV, we have determined that, for purposes of this initiation, there is a reasonable basis to believe or suspect that dumping has occurred (see Initiation Checklist).

Thailand

Export Price

To calculate EP, petitioners used import AUV data from official U.S. Census Bureau statistics for the POI for two HTSUS categories. The petitioners did not make any adjustment to the AUV data when calculating EP, because they argued that using an unadjusted AUV as the export price is a conservative methodology.

Normal Value

With respect to NV, petitioners provided home market prices obtained through foreign market research for various sizes of cold-rolled steel comparable to the products exported to the United States which serve as a basis for EP. As these were ex-factory prices, petitioners made no adjustments to the calculated average home market prices.

Price-to-CV Comparisons

The petitioners also provided information demonstrating reasonable grounds to believe or suspect that sales of cold-rolled steel in the home market were made at prices below the fully absorbed COP, within the meaning of section 773(b) of the Act, and requested that the Department conduct a country-wide sales-below-cost investigation.

Pursuant to section 773(b)(3) of the Act, COP consists of COM, SG&A expenses, and packing. The petitioners calculated COM based on their own production experience, adjusted for known differences between costs incurred to produce cold-rolled steel in the United States and Thailand using publicly available data. To calculate SG&A and interest, the petitioners relied upon amounts reported in a Thai producer of cold-rolled steel's 1999 financial statements. Based upon a comparison of the prices of the foreign like product in the home market to the calculated COP of the product, we find reasonable grounds to believe or suspect that sales of the foreign like product were made below the COP, within the meaning of section 773(b)(2)(A)(i) of the Act. Accordingly, the Department is initiating a country-wide cost investigation.

Based on the cost data discussed above, petitioners found that the Thai home market selling prices were below the COP. Therefore, pursuant to sections 773(a)(4), 773(b) and 773(e) of the Act, the petitioners based NV for sales in Thailand on CV. The petitioners calculated CV using the same COM, SG&A and interest expense figures used to compute Thai home market costs. Consistent with section 773(e)(2) of the Act, the petitioners included in CV an amount for profit. For profit, the petitioners relied upon amounts reported in the Thai cold-rolled steel producer's 1999 financial statements.

Based on an examination of the information submitted in the petition, adjusted where appropriate, and comparing EP to CV, we have determined that, for purposes of this initiation, there is a reasonable basis to believe or suspect that dumping has occurred (see Initiation Checklist).

Turkey

Export Price

To calculate EP for Turkish producers of cold-rolled steel, petitioners obtained a U.S. price quote for merchandise produced in Turkey for sale to the United States. For this U.S. price quote, petitioners made adjustments to net EP for ocean freight and U.S. Customs duty. Petitioners also provided import AUV data from official U.S. Census Bureau statistics. We based net EP on the price quote obtained.

Normal Value

With respect to NV, petitioners provided home market prices obtained through foreign market research for various sizes of cold-rolled steel comparable to the products exported to the United States which serve as a basis for EP. Petitioners adjusted the ex-factory normal value to account for a quantity discount, a payment in cash discount, and rebates.

Price-to-CV Comparisons

The petitioners also provided information demonstrating reasonable grounds to believe or suspect that sales of cold-rolled steel in the home market were made at prices below the fully absorbed COP, within the meaning of section 773(b) of the Act, and requested that the Department conduct a country-wide sales-below-cost investigation.

Pursuant to section 773(b)(3) of the Act, COP consists of COM, SG&A expenses, and packing. The petitioners calculated COM based on their own production experience, adjusted for known differences between costs incurred to produce cold-rolled steel in the United States and Turkey using publicly available data. To determine depreciation, SG&A, and interest, the petitioners used the consolidated, 2000 financial statements of a Turkish cold-rolled steel producer that petitioners believe to be representative of cold-rolled steel producers in Turkey. Based upon a comparison of the prices of the foreign like product in the home market to the calculated COP of the product, we find reasonable grounds to believe or suspect that sales of the foreign like product were made below the COP, within the meaning of section 773(b)(2)(A)(i) of the Act. Accordingly, the Department is initiating a country-wide cost investigation.

Based on the cost data discussed above, petitioners found that the Turkish home market selling prices were below the COP. Therefore, pursuant to sections 773(a)(4), 773(b) and 773(e) of the Act, the petitioners based NV for sales in Turkey on CV. The petitioners calculated CV using the same COM, SG&A, and interest expense figures used to compute Turkish home market costs. Consistent with section 773(e)(2) of the Act, the petitioners included in CV an amount for profit. The petitioners relied upon amounts reported in the same Turkish steel producer's consolidated 2000 financial statements to determine the amount for profit.

Based on an examination of the information submitted in the petition, adjusted where appropriate, and comparing EP to CV, we have determined that, for purposes of this initiation, there is a reasonable basis to believe or suspect that dumping has occurred (see Initiation Checklist).

Venezuela

Export Price

To calculate EP, petitioners used import AUV data from official U.S. Census Bureau statistics for the POI for one HTSUS category. Because the import price represented a free-along-side price, no adjustments were made to calculate net EP.

Normal Value

With respect to NV, petitioners provided home market prices obtained through foreign market research for various sizes of cold-rolled steel comparable to the products exported to the United States which serve as a basis for EP. The terms of sale were ex-factory. No adjustments were made to normal value.

Based on an examination of the information submitted in the petition, adjusted where appropriate, and comparing EP to NV, we have determined that, for purposes of this initiation, there is a reasonable basis to believe or suspect that dumping has occurred (see Initiation Checklist).

Initiation of Cost Investigations

As noted above, pursuant to section 773(b) of the Act, the petitioners provided information demonstrating reasonable grounds to believe or suspect that sales in the home markets of Belgium, France, Germany, India, Japan, Korea, the Netherlands, Thailand, and Turkey were made at prices below the fully absorbed COP and, accordingly, requested that the Department conduct country-wide sales-below-COP investigations in connection with the requested antidumping investigations for these countries. The Statement of Administrative Action (SAA), submitted to the U.S. Congress in connection with the interpretation and application of the URAA, states that an allegation of sales below COP need not be specific to individual exporters or producers. SAA, H. Doc. 103-316, Vol. 1, 103d Cong., 2d Session, at 833 (1994). The SAA, at 833, states that “Commerce will consider allegations of below-cost sales in the aggregate for a foreign country, just as Commerce currently considers allegations of sales at less than fair value on a country-wide basis for purposes of initiating an antidumping investigation.” Further, the SAA provides that “new section 773(b)(2)(A) retains the current requirement that Commerce have ‘reasonable grounds to believe or suspect’ that below cost sales have occurred before initiating such an investigation. ‘Reasonable grounds’ exist when an interested party provides specific factual information on costs and prices, observed or constructed, indicating that sales in the foreign market in question are at below-cost prices.” Id. Based upon the comparison of the adjusted prices from the petition for the representative foreign like products to their COPs, we find the existence of “reasonable grounds to believe or suspect” that sales of these foreign like products in the markets of Belgium, France, Germany, India, Japan, Korea, the Netherlands, Thailand, and Turkey were made at prices below their respective COPs within the meaning of section 773(b)(2)(A)(i) of the Act. Accordingly, the Department is initiating the requested country-wide cost investigations.

Fair Value Comparisons

The Department has examined the adequacy and accuracy of the information the petitioners used in their calculations of U.S. and home market prices and has found that it represents information reasonably available to petitioners supporting the allegations of dumping (see Initiation Checklist).

Based on the data provided by the petitioners, there is reason to believe that imports of certain cold-rolled steel from Argentina, Australia, Belgium, Brazil, France, Germany, India, Japan, Korea, the Netherlands, New Zealand, the People's Republic of China, the Russian Federation, South Africa, Spain, Sweden, Taiwan, Thailand, Turkey, and Venezuela are being, or are likely to be, sold at less than fair value.

Allegations and Evidence of Material Injury and Causation

The petitions allege that the U.S. industry producing the domestic like product is being materially injured, or is threatened with material injury, by reason of the individual and cumulated imports of the subject merchandise sold at less than NV. The petitioners contend that the industry's injured condition is evident in the stagnation of U.S. producers' sales volumes and profits, the decline of their capacity utilization, the increase of U.S. inventories and closures of U.S. production facilities. The allegations of injury and causation are supported by relevant evidence including U.S. Customs import data, lost sales, and pricing information. We have examined the accuracy and adequacy of the evidence provided in the petitions and have determined that the petitions allege the elements necessary for the imposition of a duty under section 731 of the Act and contain information reasonably available to the petitioner supporting the allegations (see Initiation Checklist, Material Injury section).

Initiation of Antidumping Investigations

Based upon our examination of the petitions on certain cold-rolled steel and the petitioners' responses to our supplemental questionnaires clarifying the petitions, as well as our conversations with the foreign market researchers who provided information concerning various aspects of the petition, we have found that the petitions meet the requirements of section 732 of the Act. See Initiation Checklist. Therefore, we are initiating antidumping duty investigations to determine whether imports of certain cold-rolled steel from Argentina, Australia, Belgium, Brazil, France, Germany, India, Japan, Korea, the Netherlands, New Zealand, the People's Republic of China, the Russian Federation, South Africa, Spain, Sweden, Taiwan, Thailand, Turkey, and Venezuela are being, or are likely to be, sold in the United States at less than fair value. Unless this deadline is postponed, we will make our preliminary determinations no later than 140 days after the date of this initiation.

Distribution of Copies of the Petitions

In accordance with section 732(b)(3)(A) of the Act, a copy of the public versions of the petitions have been provided to the representatives of the governments of Argentina, Australia, Belgium, Brazil, France, Germany, India, Japan, Korea, the Netherlands, New Zealand, the People's Republic of China, the Russian Federation, South Africa, Spain, Sweden, Taiwan, Thailand, Turkey, and Venezuela. We will attempt to provide a copy of the public version of the petitions to each exporter named in the petitions, as appropriate.

International Trade Commission Notification

We have notified the ITC of our initiations, as required by section 732(d) of the Act.

Preliminary Determinations by the ITC

The ITC will determine, no later than November 13, 2001, whether there is a reasonable indication that imports of certain cold-rolled steel from Argentina, Australia, Belgium, Brazil, France, Germany, India, Japan, Korea, the Netherlands, New Zealand, the People's Republic of China, the Russian Federation, South Africa, Spain, Sweden, Taiwan, Thailand, Turkey, and Venezuela are causing material injury, or threatening to cause material injury, to a U.S. industry. A negative ITC determination for any country will result in the investigation being terminated with respect to that country; otherwise, these investigations will proceed according to statutory and regulatory time limits.

This notice is issued and published pursuant to section 777(i) of the Act.

Dated: October 18, 2001.
Faryar Shirzad,
Assistant Secretary for Import Administration.

[FR Doc. 01-26937 Filed 10-25-01; 8:45 am]

BILLING CODE 3510-DS-P